DEPARTMENT OF AGRICULTURE

Commodity Credit Corporation

Domestic Sugar Program—2023-Crop Sugar Marketing Allotments and Cane and Beet Processor Allocations

AGENCY: Commodity Credit Corporation, U.S. Department of Agriculture.

ACTION: Notice.

SUMMARY: The United States Department of Agriculture (USDA) is issuing this notice to revise fiscal year (FY) 2024 (crop year 2023) State cane sugar allotments and allocations to sugarcane processors as well as company allocations to sugar beet processors. These actions apply to all domestic beet and cane sugar marketed for human consumption in the United States from October 1, 2023, through September 30, 2024.

FOR FURTHER INFORMATION CONTACT: Jacob Vuillemin, telephone, (202) 302-3922; or email, jacob.vuillemin@usda.gov.

SUPPLEMENTARY INFORMATION: On October 13, 2023, USDA announced the initial fiscal year 2024 (FY24) Overall Allotment Quantity (OAQ), which was established at 10,667,500 short tons, raw value (STRV), equal to 85 percent of the estimated quantity of sugar for domestic human consumption for the fiscal year of 12,550,000 STRV as forecast in the September 2023 World Agricultural Supply and Demand Estimates report (WASDE). The Agricultural Adjustment Act of 1938, as amended, requires that 54.35 percent of the OAQ be distributed among beet processors and 45.65 percent be distributed among the sugarcane States and cane processors. The beet sector allotment is 5,797,786 STRV and the cane sector allotment is 4,868,714 STRV. The beet and cane sector allotments are distributed to individual processors according to statutory formulas, as shown in the table below.

In accordance with section 359e of Agricultural Adjustment Act of 1938, as amended (7 U.S.C. 1359ee), after evaluating each sugar beet processor's ability to market its full allocation, USDA is transferring FY24 allocations from sugar beet processors with surplus allocation to those with deficit allocation as set out in the table below. USDA has also determined that domestic beet sugar supplies are inadequate to fill the FY24 beet sugar marketing allotment.

In accordance with section 7 U.S.C. 1359ee, USDA is reassigning 250,000 STRV of this deficit to raw cane sugar imports already anticipated, given the absence of any Commodity Credit Corporation (CCC) stocks of sugar. Each sugar beet processor's allocation following these changes is shown in the column labeled “Revised FY24 Allocations” and the amount of the change in each processor's allocation is in the column labeled “Reassignments.”

In accordance with 7 U.S.C. 1359ee, after evaluating each sugarcane processor's ability to market its full allocation, USDA is transferring FY24 allocations from sugarcane processors with surplus allocation to those with deficit allocation as set out in the table below. USDA has also determined that domestic cane sugar supplies are inadequate to fill the FY24 cane sugar marketing allotment.

In accordance with 7 U.S.C. 1359ee, USDA is reassigning 600,000 STRV of this deficit to raw cane sugar imports already anticipated, given the absence of any CCC stocks of sugar. Each sugarcane processor's allocation following these changes is shown in the column labeled “Revised FY24 Allocations” and the amount of the change in each processor's allocation is in the column labeled “Reassignments.”

FY 2024 Revised Beet and Cane Allotments and Allocations
[Short tons, raw value]
Distribution | Initial FY24 allotments & allocations | Reassignments | Revised FY24 allocations
Beet Sugar | 5,797,786 | −250,000 | 5,547,786
Cane Sugar | 4,869,714 | −600,000 | 4,269,714
Imports |  | 850,000 | 850,000
Total OAQ | 10,667,500 | 0 | 10,667,500
Beet Processors' Marketing Allocations:
Amalgamated Sugar Co | 1,241,350 | −8,117 | 1,233,233
American Crystal Sugar Co | 2,132,371 | −165,360 | 1,967,011
Michigan Sugar Co | 598,769 | 87,482 | 686,251
Minn-Dak Farmers Co-op | 402,650 | −29,336 | 373,315
So. Minn Beet Sugar Co-op | 782,517 | −59,310 | 723,206
Western Sugar Co | 591,583 | −76,844 | 514,739
Wyoming Sugar Company, LLC | 48,546 | 1,485 | 50,031
Total Beet Sugar | 5,797,786 | −250,000 | 5,547,786
State Cane Sugar Allotments:
Florida | 2,617,360 | −470,256 | 2,147,104
Louisiana | 2,024,823 | 34,597 | 2,059,420
Texas | 227,531 | −164,341 | 63,190
Total Cane Sugar | 4,869,714 | −600,000 | 4,269,714
Cane Processors' Marketing Allocations:
Florida:
Florida Crystals | 1,077,635 | −352,431 | 725,204
Growers Co-op. of FL | 470,825 | 3,336 | 474,161
U.S. Sugar Corp | 1,068,900 | −121,161 | 947,739
Total Florida | 2,617,360 | −470,256 | 2,147,104
Louisiana:
Sugar Growers and Refiners | 1,405,697 | 20,263 | 1,425,961
M.A. Patout & Sons | 619,126 | 14,334 | 633,459
Total Louisiana | 2,024,823 | 34,597 | 2,059,420
Texas:
Rio Grande Valley | 227,531 | −164,341 | 63,190
*Values may not sum to column total due to rounding.

These FY24 sugar marketing allotment program actions will not prevent any domestic sugarcane or sugar beet processor from marketing all of its FY24 sugar supply. USDA will closely monitor stocks, consumption, imports and all sugar market and program variables on an ongoing basis and may make further program adjustments during FY 24 if needed.

USDA Non-Discrimination Policy

In accordance with Federal civil rights law and USDA civil rights regulations and policies, USDA, its agencies, offices, and employees, and institutions participating in or administering USDA programs are prohibited from discriminating based on race, color, national origin, religion, sex, gender identity (including gender expression), sexual orientation, disability, age, marital status, family or parental status, income derived from a public assistance program, political beliefs, or reprisal or retaliation for prior civil rights activity, in any program or activity conducted or funded by USDA (not all bases apply to all programs). Remedies and complaint filing deadlines vary by program or incident.

Individuals who require alternative means of communication for program information (for example, braille, large print, audiotape, American Sign Language, etc.) should contact the responsible Agency or USDA TARGET Center at (202) 720-2600 (voice and text telephone (TTY)) dial 711 for Telecommunications Relay Service (both voice and text telephone users can initiate this call from any telephone). Additionally, program information may be made available in languages other than English.

To file a program discrimination complaint, complete the USDA Program Discrimination Complaint Form, AD-3027, found online at https://www.usda.gov/oascr/how-to-file-a-program-discrimination-complaint and at any USDA office or write a letter addressed to USDA and provide in the letter all the information requested in the form. To request a copy of the complaint form, call (866) 632-9992. Submit your completed form or letter to USDA by: (1) mail to: U.S. Department of Agriculture, Office of the Assistant Secretary for Civil Rights, 1400 Independence Avenue SW, Washington, DC 20250-9410; (2) fax: (202) 690-7442; or (3) email: program.intake@usda.gov.

USDA is an equal opportunity provider, employer, and lender.

Zach Ducheneaux,
Executive Vice President, Commodity Credit Corporation.

[FR Doc. 2024-17070 Filed 8-1-24; 8:45 am]

BILLING CODE 3411-E2-P